DEPARTMENT OF TRANSPORTATION

Federal Aviation Administration

Solicitation of Nominations for Appointment to the Youth Access to American Jobs in Aviation Task Force

AGENCY: Federal Aviation Administration (FAA), U.S. Department of Transportation (DOT).

ACTION: Solicitation of Nominations for Appointment to the Youth Access to American Jobs in Aviation Task Force (the Task Force).

SUMMARY: The FAA is issuing this notice to solicit nominations for qualified candidates to serve on the Youth Access to American Jobs in Aviation Task Force (Task Force). Section 602, Youth Access to American Jobs in Aviation Task Force, of FAA Reauthorization Act of 2018, requires the FAA Administrator to establish a Task Force. The objective of the Task Force is to provide independent advice and recommendations to the FAA. The advice and strategies relate to developing recommended initiatives to the FAA to encourage high school students towards an aviation career. In response to FAA requests, the Task Force may provide the FAA with information that may be used for tactical and strategic planning purposes.

DATES: Nomination package materials (see below) must be received no later than October 30, 2019 to be considered for the initial committee appointment. Nomination packages received after that date will be retained for consideration to fill future committee vacancies.

ADDRESSES: All nominations shall be emailed to Angela Anderson, Designated Federal Officer, at s602youthtaskforce@faa.gov (subject line“2019 Youth in Aviation Task Force Nomination”). A return email confirmation will be sent upon receipt.

FOR FURTHER INFORMATION CONTACT: For questions about this process or general questions about the Task Force, please contact Angela Anderson at s602youthtaskforce@faa.gov.

SUPPLEMENTARY INFORMATION:

Description of Duties: The Task Force acts solely in an advisory capacity and does not exercise program management responsibilities. Any decisions directly affecting implementation of policy will remain with the FAA Administrator and the Secretary of Transportation.

Not later than 12 months after its establishment, the Task Force shall develop and submit to the FAA Administrator recommendations and strategies to:

a. Facilitate and encourage high school students in the United States, beginning in their junior year, to enroll in and complete career and technical education courses, including science, technology, engineering, and mathematics (STEM), that would prepare them to enroll in a course of study related to an aviation career at an institution of higher education, including a community college or trade school;

b. Facilitate and encourage the students described above to enroll in a course of study related to an aviation career, including aviation manufacturing, engineering, and maintenance, at an institution of higher education, including a community college or trade school; and

c. Identify and develop pathways for students who complete a course of study described above to secure registered apprenticeships, workforce development programs, or careers in the aviation industry of the United States.

Not later than 30 days after submission of the recommendations and strategies to the Administrator, the Task Force shall submit to the appropriate committees of Congress a report outlining such recommendations and strategies.

Considerations. When developing these recommendations and strategies, the Task Force shall:

a. Identify industry trends that encourage or discourage youth in the United States from pursuing careers in aviation;

b. Consider how the FAA; air carriers; aircraft, powerplant, and avionics manufacturers; aircraft repair stations; and other aviation stakeholders can coordinate efforts to support youth in pursuing careers in aviation;

c. Identify methods of enhancing aviation apprenticeships, job skills training, mentorship, education, and outreach programs that are exclusive to youth in the United States; and

d. Identify potential sources of government and private sector funding, including grants and scholarships, that may be used to carry out the recommendations and strategies described above and to support youth in pursuing careers in aviation.

Membership: The membership will be fairly balanced in terms of points of view represented and the functions performed. The stakeholder groups to be represented on the Task Force will include:

a. Air carriers.

b. Aircraft, powerplant, and avionics manufacturers.

c. Aircraft repair stations.

d. Local educational agencies or high schools.

e. Institutions of higher education, including community colleges and aviation trade schools.

f. Such other aviation and educational stakeholders and experts as the FAA Administrator considers appropriate.

All Task Force members serve at the pleasure of the Secretary of Transportation. Other membership criteria include:

a. Members shall be appointed for the duration of the existence of the Task Force.

b. Members will serve without government compensation or reimbursement.

c. Representative members must represent a particular interest in employment, education, experience, or affiliation with a specific aviation-related organization.

d. Members must attend at least three-quarters of all Task Force meetings (estimated two meetings annually).

Qualifications: Representative members must be in good public standing. Preference will be given to candidates who currently serve as members of their organization's core senior leadership team, but membership may also be granted to uniquely qualified individuals who do not serve their organizations in this capacity.

Materials to Submit: Candidates are required to submit, in full, the following materials to be considered for Task Force membership. Failure to submit the required information may disqualify a candidate from the review process.

a. A short biography of the nominee, including professional and academic credentials.

b. A résumé or curriculum vitae, which must include relevant job experience, qualifications, and contact information.

c. Up to three letters of recommendation may be submitted, but are not required.

Each letter may be no longer than one page.

d. A one-page statement describing how the candidate will benefit the Task Force, taking into account the candidate's unique perspective that will advance the conversation. This statement must also identify the primary and secondary stakeholder groups to which the candidate's expertise best aligns. Finally, candidates should state their previous experience on a Federal Advisory Committee (if any), their level of knowledge in the above stakeholder groups, and the size of the constituency they represent or are able to reach.

Evaluations will be based on the materials submitted by the prospective candidates and will include consideration for membership balancing to ensure each of the above stakeholder groups has adequate representation.

Issued in Washington, DC, on September 30, 2019.
Angela Anderson,
Senior Advisor, Office of the Assistant Administrator for Human Resource Management, Federal Aviation Administration.

[FR Doc. 2019-21961 Filed 10-8-19; 8:45 am]

BILLING CODE 4910-13-P